DEPARTMENT OF TRANSPORTATION

Coast Guard

33 CFR Part 147

[CGD08-99-023]

RIN 2115-AF93

Safety Zone; Outer Continental Shelf Platforms in the Gulf of Mexico

AGENCY: Coast Guard, DOT.

ACTION: Final rule.

SUMMARY: The Coast Guard is establishing safety zones around seven high-production, manned oil and natural gas platforms on the Outer Continental Shelf in the Gulf of Mexico. The seven platforms need to be protected from vessels operating outside the normal shipping channels and fairways. Placing safety zones around the platforms will significantly reduce the threat of allisions, oil spills, and releases of natural gas. The regulation prevents all vessels from entering or remaining in specified areas around the platforms except for the following: an attending vessel; a vessel under 100 feet in length overall not engaged in towing; or a vessel authorized by the Eighth District Commander. The safety zones are necessary to protect the safety of life, property, and environment.

DATES: This rule will become effective May 1, 2000.

ADDRESSES: The public docket and all documents referred to in this rule are available for inspection or copying at the Eighth Coast Guard District Marine Safety Division, 501 Magazine Street, room 1341, New Orleans, Louisiana 70130, between 8:30 a.m. and 3:00 p.m., Monday through Friday, except Federal holidays.

FOR FURTHER INFORMATION CONTACT: LCDR Roderick Walker, Project Manager for Eighth District Commander, telephone (504) 589-3043.

SUPPLEMENTARY INFORMATION:

Regulatory History

A notice of proposed rulemaking [CGD 08-99-023] was published on November 26, 1999.

One comment was received from Shell Exploration and Production Company requesting that the latitude and longitude for each referenced facility be added into the regulation. The Coast Guard agrees and has made the additions.

Background and Purpose

The safety zones established by this regulation are in the deepwater area of the Gulf of Mexico. For the purposes of this regulation the deepwater area is considered to be waters of 304.8 meters (1,000 feet) or greater depth extending to the limits of the Exclusive Economic Zone (EEZ) contiguous to the territorial sea of the United States and extending to a distance up to 200 nautical miles from the baseline from which the breadth of the sea is measured. Navigation in the area of the safety zones consists of large commercial shipping vessels, fishing vessels, cruise ships, tugs with tows and the occasional recreational vessel. The deepwater area also includes an extensive system of fairways. The fairways include the Gulf of Mexico East-West fairway, the entrance and exit route of the Mississippi River, and the Houston-Galveston Safety Fairway. Significant amounts of vessel traffic occur in or near the various fairways in the deepwater area.

Shell Offshore, Inc. requested that the Coast Guard establish safety zones around the following Shell platforms in the Gulf of Mexico: the Boxer Platform, The Bulwinkle Platform, the Ursa Tension Leg Platform, the West Delta Platform, the Mars Tension Leg Platform, the Ram-Powell Tension Leg Platform, and the Auger Tension Leg Platform.

The request for the safety zones was made due to the high level of shipping activity around the platforms and the safety concerns for both the personnel aboard the platforms and the environment. Shell Offshore, Inc. indicated that the location, production level, and personnel levels on board the seven platforms make it highly likely that any allision with the platforms would result in a catastrophic event. Some of the platforms are located near the edge of a shipping safety fairway or fairway intersection. Others are located in open waters where no fixed structures previously existed. All are high production oil and gas drilling platforms producing from 100,000 to 250,000 barrels of oil per day, and are manned with crews ranging from approximately 130 to 156 people.

The Coast Guard has reviewed Shell Offshore Inc.'s concerns and agrees that the risk of allision to the platforms and the potential for loss of life and damage to the environment resulting from such an accident warrant the establishment of these safety zones. The West Delta 143 platform covered by this regulation did not meet the deepwater criteria; however, the Coast Guard believes its exposed location adjacent to a safety fairway and volume of throughput necessitated its inclusion into the rulemaking. The regulation would significantly reduce the threat of allisions, oil spills, and releases of natural gas and increase the safety of life, property, and the environment in the Gulf of Mexico.

Regulatory Evaluation

This rule is not a significant regulatory action under Executive Order 12866 and is not significant under the “Department of Transportation Regulatory Policies and Procedures” (44 FR 11040; February 26, 1979). The Coast Guard expects the economic impact of this rule to be so minimal that a full regulatory evaluation is unnecessary. The impacts on routine navigation are expected to be minimal.

Collection of Information

This rule contains no collection of information requirements under the Paperwork Reduction Act (44 U.S.C. 3501 et seq.).

Federalism Assessment

The Coast Guard has analyzed this rule under the principles and criteria contained in Executive Order 13132 and has determined that it does not have federalism implications under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule would not impose an unfunded mandate.

Taking of Private Property

This rule would not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environmental

The Coast Guard considered the environmental impact of this rule and concluded that under section 2-1, paragraph (34)(g) of Commandant Instruction M16475.1C this proposal is categorically excluded from further environmental documentation.

Small Entities

Under the Regulatory Flexibility Act (5 U.S.C. 601 et seq.), the Coast Guard must consider whether this regulation will have a significant economic impact on a substantial number of small entities. “Small entities” include small business and not-for-profit organizations that are independently owned and operated, that are not dominant in their field, and that otherwise qualify as “small business concerns” under section 3 of the Small Business Act (15 U.S.C. 632). Since alternate routes are available for the small number of vessels to be affected by this regulation, the Coast Guard expects the impact of this regulation on small entities to be minimal. Therefore, the Coast Guard certifies under 5 U.S.C. 605 (b) that this regulation will not have a significant economic impact on a substantial number of small entities.

List of Subjects in 33 CFR Part 147

Marine safety, Navigation (water), Outer Continental Shelf.

Regulation

In consideration of the foregoing, the Coast Guard amends part 147 of title 33, Code of Federal Regulations as follows:

PART 147—[AMENDED]

1. The authority citation for Part 147 continues to read as follows:

Authority: 14 U.S.C. 85; 43 U.S.C. 1333; and 49 CFR 1.46.

§ 147.1101 [Redesignated and revised]

2. Section 147.1101 is redesignated § 147.20 and revised to read as follows:

§ 147.20 Definitions.

Unless otherwise stated, the term “attending vessel” refers to any vessel which is operated by the owner or operator of an OCS facility located in the safety zone, which is used for the purpose of carrying supplies, equipment or personnel to or from the facility, which is engaged in construction, maintenance, alteration, or repair of the facility, or which is used for further exploration, production, transfer or storage of natural resources from the seabed beneath the safety zone.

3. New sections § 147.801 through § 147.813 are added to read as follows:

§ 147.801 Boxer Platform safety zone.

(a) Description. The Boxer Platform is located at position 27° 56′ 48″ N, 90° 59′ 48″ W. The area within 500 meters (1640.4 feet) from each point on the structure's outer edge, not to extend into the adjacent East—West Gulf of Mexico Fairway is a safety zone.

(b) Regulation. No vessel may enter or remain in this safety zone except:

(1) An attending vessel;

(2) A vessel under 100 feet in length overall not engaged in towing; or

(3) A vessel authorized by the Commander, Eighth Coast Guard District.

§ 147.803 Bullwinkle Platform safety zone.

(a) Description. The Bullwinkle Platform is located at position 27° 53′ 01″ N, 90° 54′ 04″ W. The area within 500 meters (1640.4 feet) from each point on the structure's outer edge is a safety zone.

(b) Regulation. No vessel may enter or remain in this safety zone except:

(1) An attending vessel;

(2) A vessel under 100 feet in length overall not engaged in towing; or

(3) A vessel authorized by the Commander, Eighth Coast Guard District.

§ 147.805 Ursa Tension Leg Platform safety zone.

(a) Description. The Ursa Tension Leg Platform (Ursa TLP) is located at position 28° 09′ 14.497″ N, 89° 06′ 12.790″ W. The area within 500 meters (1640.4 feet) from each point on the structure's outer edge is a safety zone.

(b) Regulation. No vessel may enter or remain in this safety zone except:

(1) An attending vessel;

(2) A vessel under 100 feet in length overall not engaged in towing; or

(3) A vessel authorized by the Commander, Eighth Coast Guard District.

§ 147.807 West Delta 143 Platform safety zone.

(a) Description. The West Delta 143 Platform is located at position 28° 39′ 42″ N, 89° 33′ 05″ W. The area within 500 meters (1640.4 feet) from each point on the structure's outer edge, not to extend into the adjacent Mississippi River Approach Fairway, is a safety zone.

(b) Regulation. No vessel may enter or remain in this safety zone except: (1) An attending vessel;

(2) A vessel under 100 feet in length overall not engaged in towing; or

(3) A vessel authorized by the Commander, Eighth Coast Guard District.

§ 147.809 Mars Tension Leg Platform safety zone.

(a) Description. The Mars Tension Leg Platform (Mars TLP) is located at position 28° 10′ 10.29″ N, 89° 13′ 22.35″ W with two supply boat mooring buoys at positions 28° 10′ 18.12″ N, 89° 12′ 52.08″ W (Northeast) and 28° 09′ 49.62″ N, 89° 12′ 57.48″ W (Southeast). The area within 500 meters (1640.4 feet) from each point on the structure's outer edge and the area within 500 meters (1640.4 feet) of each of the supply boat mooring buoys is a safety zone.

(b) Regulation. No vessel may enter or remain in this safety zone except:

(1) An attending vessel;

(2) A vessel under 100 feet in length overall not engaged in towing; or

(3) A vessel authorized by the Commander, Eighth Coast Guard District.

§ 147.811 Ram-Powell Tension Leg Platform safety zone.

(a) Description. The Ram-Powell Tension Leg Platform (Ram-Powell TLP) is located at position 29° 03′ 52.2″ N, 88° 05′ 30″ W with two supply boat mooring buoys at positions 29° 03′ 52.2″ N, 88° 05′ 12.6″ W (Northeast) and 29° 03′ 28.2″ N, 88° 05′ 10.2″ W (Southeast). The area within 500 meters (1640.4 feet) from each point on the structure's outer edge and the area within 500 meters (1640.4 feet) of each of the supply boat mooring buoys is a safety zone.

(b) Regulation. No vessel may enter or remain in this safety zone except:

(1) An attending vessel;

(2) A vessel under 100 feet in length overall not engaged in towing; or

(3) A vessel authorized by the Commander, Eighth Coast Guard District.

§ 147.813 Auger Tension Leg Platform safety zone.

(a) Description. The Auger Tension Leg Platform (Auger TLP) is located at position 27° 32′ 45.4″ N, 92° 26′ 35.09″ W with two supply boat mooring buoys at positions 27° 32′ 38.1″ N, 92° 26′ 04.8″ W (East Buoy) and 27° 32′ 58.14″ N, 92° 27′ 04.92″ W (West Buoy). The area within 500 meters (1640.4 feet) from each point on the structure's outer edge and an area within 500 meters (1640.4 feet) of each of the supply boat mooring buoys is a safety zone.

(b) Regulation. No vessel may enter or remain in this safety zone except:

(1) an attending vessel;

(2) A vessel under 100 feet in length overall not engaged in towing or fishing; or

(3) A vessel authorized by the Commander, Eighth Coast Guard District.

Dated: March 14, 2000.
K. J. Eldridge,
Captain, U.S. Coast Guard, Acting Commander, Eighth Coast Guard District.

[FR Doc. 00-7637 Filed 3-29-00; 8:45 am]

BILLING CODE 4910-15-U